DEPARTMENT OF COMMERCE

International Trade Administration

[A-549-823]

Notice of Final Determination of Sales at Less Than Fair Value: Bottle-Grade Polyethylene Terephthalate Resin From Thailand

AGENCY: Import Administration, International Trade Administration, Department of Commerce.

Final Determination: The Department of Commerce (“the Department”) determines that Bottle-Grade Polyethylene Terephthalate (“PET”) Resin from Thailand is being, or is likely to be sold in the United States at less than fair value (“LTFV”), as provided in section 735 of the Tariff Act of 1930, as amended (“the Act”). The estimated margins of sales at LTFV are shown in the “Continuation of Suspension of Liquidation” section of this notice.

EFFECTIVE DATE: March 21, 2005.

FOR FURTHER INFORMATION CONTACT: Audrey R. Twyman or Natalie Kempkey (202) 482-3534 or (202) 482-1698, respectively; AD/CVD Operations, Office 1, Import Administration, Room 1870, International Trade Administration, United States Department of Commerce, 14th Street and Constitution Avenue, NW., Washington, DC 20230.

Case History

On October 28, 2004, the Department published in the Federal Register the Preliminary Determination in its investigation of PET resin from Thailand. Since the Preliminary Determination, the following events have occurred. On October 29, 2004, the Department received from Bangkok Polyester Public Company, Ltd. (“Bangkok Polyester”) a submission containing supplemental and clarifying information and databases for its section B and C questionnaire responses. On October 29, 2004, Bangkok Polyester also submitted an alternative Section D database with comments. On November 4, 2004 and December 9, petitioner ¹ submitted pre-verification comments. On November 5, 2004, the Department sent Bangkok Polyester a third supplemental to the questionnaire; the Department received a response to this supplemental questionnaire on December 1, 2004.

¹ The petitioner in this case is the United States PET Resin Producers Coalition (“petitioner”).

From November 8 to 12, 2004, we conducted the COP verification of Bangkok Polyester. Bangkok Polyester submitted its minor corrections from the COP verification on November 10, 2004, and its verification exhibits on November 17, 2004. From December 13 to 16, 2004, we conducted Bangkok Polyester's sales verification. Bangkok Polyester submitted its minor corrections from the sales verification on December 14, 2004, and its sales verification exhibits on December 23, 2004. The Department issued its COP verification report on January 15, 2005, and its sales verification report on January 25, 2005. On January 4, 2005, Bangkok Polyester submitted revised sections B and C sales databases incorporating minor error corrections reported to the Department at the start of its sales verification.

We received case briefs from petitioner and Bangkok Polyester on February 1, 2005. We received rebuttal briefs from petitioner and Bangkok Polyester on February 7, 2005. Petitioner requested a hearing on November 16, 2004, but withdrew the request on February 9, 2005.

Scope of Investigation

The merchandise covered by this investigation is bottle-grade PET resin, defined as having an intrinsic viscosity of at least 0.68 deciliters per gram but not more than 0.86 deciliters per gram. The scope includes bottle-grade PET resin that contains various additives introduced in the manufacturing process. The scope does not include post-consumer recycle or post-industrial recycle PET resin; however, included in the scope is any bottle-grade PET resin blend of virgin bottle-grade PET resin and recycled PET. Waste and scrap PET is outside the scope of the investigation. Fiber-grade PET resin, which has an intrinsic viscosity of less than 0.68 deciliters per gram, is also outside the scope of the investigation.

The merchandise subject to this investigation is properly classified under subheading 3907.60.00.10 of the Harmonized Tariff Schedule of the United States (“HTSUS”); however, merchandise classified under HTSUS subheading 3907.60.00.50 that otherwise meets the written description of the scope is also subject to this investigation. Although the HTSUS subheadings are provided for convenience and customs purposes, the written description of the merchandise under investigation is dispositive.

Period of Investigation

The period of investigation is January 1, 2003, through December 31, 2003.

Use of Facts Otherwise Available

For the final determination, the Department continues to find as we did in the Preliminary Determination that Thai Shinkong Industry Corporation, Ltd. did not act to the best of its abilities and failed to provide the information requested by the Department. Therefore, the Department continues to find that the use of adverse facts available is warranted under section 776 of the Act. See Memorandum to Barbara E. Tillman, “Final Determination of Polyethylene Terephthalate (“PET”) Resin from Thailand: Corroboration Memorandum” dated March 15, 2005.

Verification

As provided in section 782(i)(1) of the Act, we verified the COP information submitted by Bangkok Polyester from November 8 to 12, 2004, and the sales information from December 13 to 16, 2004. We used standard verification procedures, including examination of relevant accounting and production records, as well as original source documents provided by Bangkok Polyester.

Analysis of Comments Received

All issues raised in the case and rebuttal briefs submitted by petitioner and Bangkok Polyester are addressed in the Memorandum to Joseph A. Spetrini, “Issues and Decision Memorandum for the Final Determination of the Antidumping Duty Investigation of Bottle-Grade Polyethylene Terephthalate Resin from Thailand” dated March 14, 2005 (“Decision Memorandum”), which is hereby adopted by this notice. Attached to this notice as an appendix is a list of the issues which petitioner and Bangkok Polyester have raised and to which we have responded in the Decision Memorandum. Parties can find a complete discussion of all issues raised in this investigation and the corresponding recommendations in this public memorandum, which is on file in the Department's Central Records Unit, room B099. In addition, a complete version of the Decision Memorandum can be accessed directly on the Web at http://ia.ita.doc.gov or http://ia.ita.doc.gov/frn/index.html. The paper copy and electronic version of the Decision Memorandum are identical in content.

Fair Value Comparisons

We calculated export price and normal value for Bangkok Polyester using the same methodology as described in the Preliminary Determination, with the exceptions noted in the “Margin Calculations” section of the Decision Memorandum.

Currency Conversions

We made currency conversions into United States dollars in accordance with section 773(a) of the Act based on exchange rates in effect on the dates of the United States sales as certified by the Federal Reserve.

Continuation of Suspension of Liquidation

In accordance with section 735(c)(1)(B) of the Act, we are directing United States Customs and Border Protection (“CBP”) to continue to suspend liquidation of all entries of PET resin from Thailand that are entered, or withdrawn from warehouse, for consumption on or after the date of October 28, 2004, the date of publication of the Preliminary Determination in the Federal Register. CBP shall continue to require a cash deposit or the posting of a bond equal to the weighted-average dumping margin as indicated in the chart below. These instructions suspending liquidation will remain in effect until further notice. The weighted-average dumping margins are as follows:

Producer/exporter | Weighted-average margin (percentage)
Bangkok Polyester Public Company, Ltd | 24.83
Thai Shinkong Industry Corporation, Ltd | 41.28
All Others | 24.83

Disclosure

The Department will disclose calculations performed within five days of the date of publication of this notice to the parties in this proceeding in accordance with 19 CFR 351.224(b).

International Trade Commission Notification

In accordance with section 735(d) of the Act, we have notified the International Trade Commission (“ITC”) of the Department's final determination. As our final determination is affirmative, the ITC will, within 45 days, determine whether these imports are materially injuring, or threaten material injury to, the United States industry. If the ITC determines that material injury, or threat of material injury, does not exist, the proceeding will be terminated and all securities posted will be refunded or canceled. If the ITC determines that such injury does exist, the Department will issue an antidumping order.

Notification Regarding Administrative Protective Order

This notice also serves as a reminder to parties subject to administrative protective order (“APO”) of their responsibility concerning the disposition of proprietary information disclosed under APO in accordance with 19 CFR 351.305. Timely notification of return or destruction of APO materials, or conversation to judicial protective order, is hereby requested. Failure to comply with the regulations and the terms of APO is a sanctionable violation.

This determination is issued and published pursuant to sections 735(d) and 777(I)(1) of the Act.

Dated: March 14, 2005.
Joseph A. Spetrini,
Acting Assistant Secretary for Import Administration.

Appendix—List of Comments and Issues in the Decision Memorandum

Comment 1: Cost Verification Minor Correction.

Comment 2: Capitalized Asset Costs.

Comment 3: Cost Reconciliation Items.

Comment 4: General and Administrative Expense Ratio.

Comment 5: Financial Expense Ratio.

Comment 6: Direct Selling Expenses for Sample United States Sale.

Comment 7: Bank Charges for Export Sales.

Comment 8: Duty Drawback.

Comment 9: United States Packing.

Comment 10: Unreported United States Sale.

Comment 11: Dumping Margin Program and Printout for the Preliminary Determination.

Comment 12: Home Market Packing.

Comment 13: Indirect Selling Expense.

Comment 14: Brokerage and Handling.

Comment 15: Offsets for Non-Dumped Sales.

[FR Doc. E5-1217 Filed 3-18-05; 8:45 am]

BILLING CODE 3510-DS-P